DEPARTMENT OF COMMERCE

National Oceanic and Atmospheric Administration

Renewal of the Advisory Committee on Commercial Remote Sensing

ACTION: Notice.

SUMMARY: The Secretary of Commerce has determined that the renewal of the Advisory Committee on Commercial Remote Sensing (ACCRES) is in the public interest in connection with the performance of duties imposed on the Department by law. ACCRES was renewed on March 8, 2018.

FOR FURTHER INFORMATION CONTACT: Samira Patel, Commercial Remote Sensing Regulatory Affairs Office, NOAA Satellite and Information Services, 1335 East-West Highway, Room 8247, Silver Spring, Maryland 20910; telephone (301) 713-7077, email samira.patel@noaa.gov.

SUPPLEMENTARY INFORMATION: The Committee was first established in May 2002, to advise the Under Secretary of Commerce for Oceans and Atmosphere on matters relating to the U.S. commercial remote-sensing industry and NOAA's activities to carry out the responsibilities of the Department of Commerce set forth in the National and Commercial Space Programs Act of 2010 (The Act) Title 51 U.S.C. 60101 et seq. (formally the Land Remote Sensing Policy Act of 1992 15 U.S.C. Secs. 5621-5625).

ACCRES will have a fairly balanced membership consisting of approximately 9 to 20 members serving in a representative capacity. All members should have expertise in remote sensing, space commerce or a related field. Each candidate member shall be recommended by the Assistant Administrator and shall be appointed by the Under Secretary for a term of two years at the discretion of the Under Secretary.

The Committee will function solely as an advisory body, and in compliance with provisions of the Federal Advisory Committee Act. Copies of the Committee's revised Charter have been filed with the appropriate committees of the Congress and with the Library of Congress.

This renewal is in accordance with the provisions of the Federal Advisory Committee Act, 5 U.S.C. App 2, and the General Services Administration (GSA) rule on Federal Advisory Committee Management, 41 CFR part 101-6. The Secretary made the determination after consultation with GSA,

Stephen M. Volz,
Assistant Administrator for Satellite and Information Services.

[FR Doc. 2018-08994 Filed 4-30-18; 8:45 am]

BILLING CODE 3510-HR-P